DEPARTMENT OF HOMELAND SECURITY

Coast Guard

33 CFR Part 117

[Docket No. USCG-2015-0864]

Drawbridge Operation Regulation; Lafourche Bayou, Larose, LA

AGENCY: Coast Guard, DHS.

ACTION: Notice of deviation from drawbridge regulation.

SUMMARY: The Coast Guard has issued a temporary deviation from the operating schedule that governs the operation of the T-Bois bridge, a vertical lift-span bridge across Lafourche Bayou, mile 40.4, at Larose, Louisiana. The deviation is necessary in order to allow for the smooth flow of increased vehicular traffic caused by the temporary closure of the LA 1 bridge across the Gulf Intracoastal Waterway. This deviation allows the bridge to open on signal for the passage of traffic if at least one-hour advanced notification is given during the morning and evening rush hours.

DATES: This deviation is effective without actual notice from September 9, 2015 through November 30, 2015. For the purposes of enforcement, actual notice will be used from September 2, 2015 until September 9, 2015.

ADDRESSES: The docket for this deviation, [USCG-2015-0864] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard; telephone 504-671-2128, email David.M.Frank@uscg.mil. If you have questions on viewing the docket, call Cheryl F. Collins, Program Manager, Docket Operations, telephone 202-366-9826.

SUPPLEMENTARY INFORMATION: The Louisiana Department of Transportation and Development has closed the LA 1 vertical lift bridge (on the west side of Lafourche Bayou) across the Gulf Intracoastal Waterway, mile 35.6, at Larose, Louisiana to vehicular traffic for repairs to the bridge. The bridge will be closed to vehicular traffic until November 30, 2015. As a result of this closure, all vehicular traffic wishing to transit north or south in Lafourche Parish must do so using LA 308 on the east side of Lafourche Bayou. Much of the vehicular traffic must cross the T-Bois bridge across Lafourche Bayou to accomplish this transit. The increase in vehicular traffic across the T-Bois bridge has caused a previously unforeseen traffic jam during the morning and afternoon rush hours. To help alleviate this traffic issue, the Lafourche Parish Government has requested that vessel traffic be limited during the morning and evening rush hours. As part of this discussion, it was determined that from 6 a.m. to 9 a.m. and from 3 p.m. to 6 p.m. Monday through Friday, the T-Bois bridge across Lafourche Bayou will open on signal if at least one-hour advanced notification is given. Mariners may request an opening during the time by contacting the bridge tender at 985-693-4040. Presently, the bridge opens on signal for the passage of vessels in accordance with 33 CFR 117.5.

The bridge has a vertical clearance of 2.4 feet above mean high water, elevation 3.0 feet National Geodetic Vertical Datum (NGVD) in the closed-to-navigation position and 73 feet above mean high water in the open-to-navigation position. Navigation on the waterway consists mainly of tugs with barges and fishing vessels. Based on known waterway users, it has been determined that this restriction will not have a significant effect on vessels using the waterway. An alternate route is available via the Company Canal at Lockport, LA.

In accordance with 33 CFR 117.35, the bridge must return to its regular operating schedule immediately at the end of the effective period of this temporary deviation.

This deviation from the operating regulations is authorized under 33 CFR 117.35.

Dated: September 2, 2015.
David M. Frank,
Bridge Administrator, Eighth Coast Guard District.

[FR Doc. 2015-22513 Filed 9-8-15; 8:45 am]

BILLING CODE 9110-04-P